DEPARTMENT OF HEALTH AND HUMAN SERVICES

Health Care Financing Administration

[HCFA-3066-N]

Medicare Program; Meeting of the Diagnostic Imaging Panel of the Medicare Coverage Advisory Committee—June 19, 2001

AGENCY: Health Care Financing Administration (HCFA), HHS.

ACTION: Notice of meeting.

SUMMARY: This notice announces a public meeting of the Diagnostic Imaging Panel (the Panel) of the Medicare Coverage Advisory Committee. The Panel provides advice and recommendations to the agency about clinical issues. The Panel will hear and discuss presentations from interested persons regarding FDG Positron Emission Tomography imaging for breast cancer diagnosis and staging.

Notice of this meeting is given under the Federal Advisory Committee Act (5 U.S.C. App. 2, section 10(a)(1) and (a)(2)).

DATES: The Meeting: The meeting will be held on June 19, 2001 from 8 a.m. until 4:30 p.m., E.D.T.

Deadline for Presentations and Comments: June 5, 2001, 5 p.m., E.D.T.

Special Accommodations: Persons attending the meeting who are hearing or visually impaired, or have a condition that requires special assistance or accommodations, are asked to notify the Executive Secretary by May 26, 2001.

ADDRESSES: The Meeting: The meeting will be held at the Baltimore Convention Center, Room 321 and 322, One West Pratt Street, Baltimore, MD 21201.

Presentations and Comments: Submit formal presentations and written comments to Janet A. Anderson, Executive Secretary; Office of Clinical Standards and Quality; Health Care Financing Administration; 7500 Security Boulevard; Mail Stop S3-02-01; Baltimore, MD 21244.

Website: You may access up-to-date information on this meeting at www.hcfa.gov/coverage.

Hotline: You may access up-to-date information on this meeting on the HCFA Advisory Committee Information Hotline, 1-877-449-5659 (toll free) or in the Baltimore area (410) 786-9379.

FOR FURTHER INFORMATION CONTACT: Janet A. Anderson, Executive Secretary, 410-786-2700.

SUPPLEMENTARY INFORMATION: On August 13, 1999, we published a notice (64 FR 44231) to describe the Medicare Coverage Advisory Committee (MCAC), which provides advice and recommendations to us about clinical issues. This notice announces the following public meeting of the Diagnostic Imaging Panel (the Panel) of MCAC.

Current Panel Members

Frank Papatheofanis, MD, PhD; Barbara McNeil, MD, PhD; Carole Flamm, MD, MPH; Jeffrey Lerner, PhD; Michael Manyak, MD; Donna Novak, BA; Manuel Cerqueira, MD; Kim Burchiel, MD; Steven Guyton, MD; Sally Hart, JD; Michael Klein, MBA

Meeting Topic

The Panel will hear and discuss presentations from interested persons regarding FDG Positron Emission Tomography imaging for breast cancer diagnosis and staging.

Procedure and Agenda

This meeting is open to the public. The Panel will hear oral presentations from the public for approximately 1.5 hours. The Panel may limit the number and duration of oral presentations to the time available. If you wish to make formal presentations, you must notify the respective Executive Secretary listed in the FOR FURTHER INFORMATION CONTACT section of this notice, and submit the following by the Deadline for Presentations and Comments date listed in the DATES section of this notice: A brief statement of the general nature of the evidence or arguments you wish to present, and the names and addresses of proposed participants. A written copy of your presentation must be provided to each panel member prior to offering your public comments. We will request that you declare at the meeting whether or not you have any financial involvement with manufacturers of any items or services being discussed (or with their competitors).

After the public and HCFA presentations, the Panel will deliberate openly on the topic. Interested persons may observe the deliberations, but the Panel will not hear further comments during this time except at the request of the chairperson. The Panel will also allow approximately a 30-minute open public session for any attendee to address issues specific to the topic. At the conclusion of the day, the members will vote and the Panel will make its recommendation.

Authority: 5 U.S.C. App. 2, section 10(a)(1) and (a)(2).

(Catalog of Federal Domestic Assistance Program No. 93.774, Medicare—Supplementary Medical Insurance Program)
Dated: April 6, 2001.
Jeffrey L. Kang,
Director, Office of Clinical Standards and Quality, Health Care Financing Administration.

[FR Doc. 01-10638 Filed 4-27-01; 8:45 am]

BILLING CODE 4120-01-P